SMALL BUSINESS ADMINISTRATION

Notice Seeking Exemption Under Section 312 of the Small Business Investment Act, Conflicts of Interest

Notice is hereby given that LongueVue Capital Partners II, L.P. (“Applicant”), 111 Veterans Blvd., Suite 1020, Metairie, LA 70005, an SBIC Applicant under the Small Business Investment Act of 1958, as amended (“the Act”), in connection with the financing of a small concern, has sought an exemption under section 312 of the Act and section 107.730, Financings which Constitute Conflicts of Interest, of the Small Business Administration (“SBA”) rules and regulations (13 CFR 107.730). LongueVue Capital Partners II, LP proposes to provide debt financing to Blue Dot Energy Services, LLC (“Blue Dot” or the “company”). Blue Dot is located at Route 76 East, Bridgeport, WV 26330.

A conflict of interest exemption is required because the Blue Dot investment is considered financing of an Associate under 13 CFR 107.730(a). Blue Dot is an Associate of the Applicant because Associate of Applicant, LongueVue Capital I (“LVCI”), has a greater than 10 percent fully diluted investment in Blue Dot prior to Applicant's initial investment.

Notice is hereby given that any interested person may submit written comments on the transaction to the Associate Administrator for Investment, U.S. Small Business Administration, 409 Third Street SW., Washington, DC 20416.

Dated: March 12, 2012.
Sean Greene,
Associate Administrator for Investment.

[FR Doc. 2012-6464 Filed 3-15-12; 8:45 am]

BILLING CODE P